COMMISSION ON CIVIL RIGHTS

Invitation for Membership on Advisory Committees

AGENCY: United States Commission on Civil Rights.

ACTION: Notice of Request for Applications.

SUMMARY: Congress has mandated the United States Commission on Civil Rights (Commission) create advisory committees (committees) in all 50 states and the District of Columbia. These committees assist in the examination of civil rights issues and policies by conducting public meetings to hear testimony and by providing reports with findings and recommendations to the Commission in accordance with the provisions of the Federal Advisory Committee Act (FACA). The Commission is requesting applications to those advisory committees whose members' terms expire in the next 12 months and to those advisory committees in need of interim appointments. The Commission is accepting applications and appointing members for four-year terms for the following 12 advisory committees: Virginia, Kentucky, Oregon, South Carolina, Illinois, Massachusetts, South Dakota, Wisconsin, Maryland, West Virginia, Georgia, and Maine. The Commission is also accepting applications to fill the remaining of the terms for the following 6 advisory committees: California, Idaho, Indiana, Iowa, Washington, and Wyoming.

DATES: Applications for membership on the Virginia Advisory Committee should be received no later than March 7, 2019.

Applications for membership on the Kentucky, Oregon, and South Carolina Advisory Committees should be received no later than April 16, 2019.

Applications for membership on the Illinois, Massachusetts, South Dakota, and Wisconsin Advisory Committee should be received no later than May 16, 2019.

Applications for membership on the Maryland and West Virginia Advisory Committees should be received no later than August 17, 2019.

Applications for membership on the Georgia and Maine Advisory Committees should be received no later than January 14, 2020.

Applications for membership on the California, Idaho, Indiana, Iowa, Washington, and Wyoming Advisory Committees will be received until all interim appointments are made.

ADDRESSES: Applications for all advisory committees must be submitted through the following website: https://www.surveymonkey.com/r/S7WCLL6. The applications will be received by the Regional Programs Unit, 230 South Dearborn St., Suite 2120, Chicago, IL 60604.

FOR FURTHER INFORMATION CONTACT: David Mussatt, Supervisory Chief, Regional Programs Unit, 230 South Dearborn St., Suite 2120, Chicago, IL 60604, (312) 353-8311. Questions can also be directed via email to dmussatt@usccr.gov.

SUPPLEMENTARY INFORMATION:

1. Background

Congress has mandated that the U.S. Commission on Civil Rights' establish an advisory committee in each of the 50 states and the District of Columbia. See 42 U.S.C. 1975a. These committees operate under the provisions of the Federal Advisory Committee Act, as amended, 5 U.S.C. Appendix 2.

2. Scope of Advisory Committee Duties

The committees advise the Commission on matters in its respective locale regarding alleged deprivations of voting rights or discrimination or denials of the equal protection of the laws because of race, color, religion, sex, age, disability, or national origin, or in the administration of justice. Committees advise the Commission by conducting public meetings to hear testimony from diverse experts, government officials, advocacy groups, individuals directly impacted, and members of the general public. Committees then forward their advice and recommendations to the Commission.

3. Member Term and Responsibilities

Each advisory committee consists of not more than 19 members, each of whom will serve a four-year term. Members are expected to attend approximately four meetings per year and make a meaningful contribution to the committee's work.

4. Member Selection

The Commission appoints members to advisory committees at their regularly scheduled business meetings. Every effort is made to ensure diverse points of view are represented on each committee. The Commission also appoints the chair of each committee.

5. Member Designation

Members serve as unpaid Special Government Employees who are reimbursed for travel and expenses. As Special Government Employees, Advisory Committee members must follow the executive branch's ethics rules, which includes submitting a conflicts form and notifying Commission staff of any financial conflicts with a proposed topic the committee is evaluating. Members also must take an annual ethics training.

6. Application Requirements

To be eligible to be on an advisory committee, applicants must be residents of the respective state or district, and have demonstrated expertise or interest in civil rights issues. All applicants must complete the on-line application form found at https://www.surveymonkey.com/r/S7WCLL6. The Commission invites any individual who is eligible to be appointed a member of an advisory committee covered by this notice to apply.

Dated: February 4, 2019.
David Mussatt,
Supervisory Chief, Regional Programs Unit.

[FR Doc. 2019-01574 Filed 2-7-19; 8:45 am]

BILLING CODE P